FEDERAL COMMUNICATIONS COMMISSION

47 CFR Parts 1 and 73

[GN Docket No. 12-268; FCC 14-50]

Expanding the Economic and Innovation Opportunities of Spectrum Through Incentive Auctions

AGENCY: Federal Communications Commission.

ACTION: Final rule; announcement of effective date.

SUMMARY: In this document, the Commission announces that, the Office of Management and Budget (OMB) approved, on an emergency basis, for a period for six months, an information collection for FCC Form 177, Application to Participate in a Reverse Incentive Auction, and certain Commission's rules contained in the Report and Order, Expanding the Economic and Innovation Opportunities of Spectrum Through Incentive Auctions, FCC 14-50. This document is consistent with the Report and Order, which stated that the Commission would publish a document in the Federal Register announcing OMB approval and the effective date of the rules and requirements.

DATES: 47 CFR 1.2204(a), (c), (d)(3), and (d)(5) and 73.3700(h)(4) and (6) and FCC Form 177, Application to Participate in a Reverse Incentive Auction, published at 79 FR 48442, August 15, 2014, are effective on December 2, 2015.

FOR FURTHER INFORMATION CONTACT: Contact Cathy Williams, Cathy.Williams@fcc.gov, (202) 418-2918.

SUPPLEMENTARY INFORMATION: This document announces that, on November 19, 2015, OMB approved on an emergency basis the information collection requirements for FCC Form 177, Application to Participate in a Reverse Incentive Auction and 47 CFR 1.2204(a), (c), (d)(3), and (d)(5) and 73.3700(h)(4) and (6), published at 79 FR 48442 on August 15, 2014. The OMB Control Number is 3060-1213. The Commission publishes this document as an announcement of the effective date of the rules and requirements. If you have any comments on the burden estimates listed below, or how the Commission can improve the collections and reduce any burdens caused thereby, please contact Cathy Williams, Federal Communications Commission, Room 1-C823, 445 12th Street SW., Washington, DC 20554. Please include the OMB Control Number, 3060-1213, in your correspondence. The Commission will also accept your comments via the Internet if you send them to PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the Commission is notifying the public that it received emergency approval from OMB on November 19, 2015, for the information collection requirements contained in the information collection 3060-1213.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1213. The foregoing document is required by the Paperwork Reduction Act of 1995, Public Law 104-13, October 1, 1995, and 44 U.S.C. 3507.

The total annual reporting burdens and costs for the respondents are as follows:

OMB Control Number: 3060-1213.

OMB Approval Date: November 19, 2015.

OMB Expiration Date: May 31, 2016.

Title: Application to Participate in a Reverse Incentive Auction, FCC Form 177.

Form No.: FCC Form 177.

Respondents: Business or other for-profit entities; Not-for-profit institutions; State, local or Tribal government.

Number of Respondents and Responses: 600 respondents; 600 responses.

Estimated Time per Response: 90 minutes.

Frequency of Response: One-time reporting requirement.

Obligation to Respond: Required to obtain or retain benefits. The statutory authority for this information collection is contained in sections 154(i) and 309(j)(5) of the Communications Act of 1934, as amended, 47 U.S.C. 4(i), 309(j)(5), and sections 1.2204(a), (c), (d)(3), and (d)(5) and 73.3700(h)(4) and (6) of the Commission's rules, 47 CFR 1.2204(a), (c), (d)(3), (d)(5), 73.3700(h)(4) and (6).

Total Annual Burden: 900 hours.

Total Annual Cost: None.

Privacy Act Impact Assessment: No impact(s).

Nature and Extent of Confidentiality: Certain information collected on FCC Form 177 will be treated as confidential for various periods of time during the course of the broadcast incentive auction (BIA) pursuant to 47 U.S.C. 1452(a)(3) and section 1.2206(b) of the Commission's rules, 47 CFR 1.2206(b). To the extent necessary, respondents may request confidential treatment of information collected on FCC Form 177 that is not already being treated as confidential pursuant to section 0.459 of the Commission's rules. See 47 CFR 0.459.

Needs and Uses: In the Report and Order, the Commission adopted a requirement that entities interested in participating in the reverse auction component of the BIA submit a pre-auction application to establish their eligibility to participate in the auction, and adopted rules and requirements concerning the types of information that broadcast licensees would be required to disclose in their pre-auction applications. FCC Form 177 implements sections 1.2204(a), (c), (d)(3), (d)(5) and 73.3700(h)(4) and (6) of the Commission's rules and will be used by the public to apply to participate in reverse incentive auctions, including the Commission's upcoming broadcast incentive reverse auction. The information collected on FCC Form 177 will be used by the Commission to determine if an applicant is legally qualified to participate in the reverse auction. Commission staff will review the information collected on FCC Form 177 as part of the pre-auction process, prior to the start of the reverse auction. Staff will determine whether each applicant satisfies the Commission's requirements to participate in the reverse auction. This approach provides an appropriate screen to ensure serious participation and deter possible abuse of the bidding process without being unduly burdensome.

Federal Communications Commission.
Gloria J. Miles,
Federal Register Liaison Officer, Office of the Secretary.

[FR Doc. 2015-30476 Filed 12-1-15; 8:45 am]

BILLING CODE 6712-01-P